DEPARTMENT OF HEALTH AND HUMAN SERVICES

Health Resources and Services Administration

Agency Information Collection Activities: Submission to OMB for Review and Approval; Public Comment Request; SHIP COVID-19 Testing and Mitigation Program Data Collection, OMB No. 0906-0066—Extension

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this Notice has closed.

DATES: Comments on this ICR should be received no later than April 18, 2022.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the acting HRSA Information Collection Clearance Officer at paperwork@hrsa.gov or call (301) 443-9094.

SUPPLEMENTARY INFORMATION: Information Collection Request Title: SHIP COVID-19 Testing and Mitigation Program Data Collection OMB No. 0906-0066—Extension.

Abstract: The American Rescue Plan Act of 2021 (Pub. L. 117-2) provided one-time funding for awards that will be carried out under section 711 of the Social Security Act (42 U.S.C. 912(b)(5)). The Small Rural Hospital Improvement Program (SHIP) is requesting an extension of an information collection request. State grantees will improve health care in rural areas by using the funding to provide support to eligible rural hospitals to increase COVID-19 testing efforts, expand access to testing in rural communities, and expand the range of mitigation activities.

A 60-day Notice published in the Federal Register, 86 FR 74095 (December 29, 2021). There were no public comments.

Need and Proposed Use of the Information: The terms and conditions for this program specify that, “hospitals will be required to report on the number of tests provided and categories in which the funding is spent.” The data will allow HRSA to ensure SHIP COVID-19 recipients are meeting the terms and conditions of their funding, while providing HRSA with information on the effectiveness of funds distributed through this program.

Likely Respondents: The respondents will be hospital staff and designated Representatives, and State Office of Rural Health Staff.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
SHIP COVID-19 Testing and Mitigation Data Reporting | 1,540 Number of unique organizations funded through the program | 6 Reported on a quarterly basis during the 18 month program or until the end of the public health emergency (whichever is first) | 9,240 | .25 | 2,310 Total hours spent on responses for all funded organization over a 2-year period.
Total | 1,540 |  | 9,240 |  | 2,310

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-05717 Filed 3-17-22; 8:45 am]

BILLING CODE 4165-15-P